ARCHITECTURAL AND TRANSPORTATION BARRIERS COMPLIANCE BOARD

Meetings

AGENCY: Architectural and Transportation Barriers Compliance Board

ACTION: Notice of meetings.

SUMMARY: The Architectural and Transportation Barriers Compliance Board (Access Board) plans to hold its regular committee and Board meetings in Washington, DC, Monday through Wednesday, July 7-9, 2014 at the times and location listed below.

DATES: The schedule of events is as follows:

Monday, July 7, 2014

10:00-3:00 p.m. Ad Hoc Committee Meetings: Closed to public

3:00-4:00 Ad Hoc Committee on Frontier Issues

Tuesday, July 8, 2014

9:30-10:30 a.m. Technical Programs Committee

10:30-Noon Planning and Evaluation Committee

1:30-2:30 p.m. Budget Committee

Wednesday, July 9, 2014

9:30-Noon Ad Hoc Committees: Closed to public

1:30-3:00 p.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, July 9, 2014, the Access Board will consider the following agenda items:

• Approval of the draft March 12, 2014 meeting minutes (vote)

• Ad Hoc Committee Reports: Self-Service Transaction Machines; Information and Communications Technologies; Accessible Design in Education; Public Rights-of-Way and Shared Use Paths; Classroom Acoustics (vote); Passenger Vessels; Frontier Issues; Transportation Vehicles (vote); and Medical Diagnostic Equipment (vote)

• Budget Committee (vote)

• Technical Programs Committee (vote)

• Planning and Evaluation Committee (vote)

• Election Assistance Commission Report

• Executive Director's Report

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2014-13011 Filed 6-4-14; 8:45 am]

BILLING CODE 8150-01-P